NATIONAL INDIAN GAMING COMMISION

Notice of Approved Class III Tribal Gaming Ordinances

AGENCY: National Indian Gaming Commission.

ACTION: Notice.

SUMMARY: The purpose of this notice is to inform the public of Class III tribal gaming ordinances approved by the Chairman of the National Indian Gaming Commission.

DATES: This notice is applicable December 28, 2021.

FOR FURTHER INFORMATION CONTACT: Tearanie McCain, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710 (d) (2) (B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register is sufficient to meet the requirements of 25 U.S.C. 2710 (d) (2) (B). Beginning September 30, 2021, the NIGC will publish the notice of approved gaming ordinances quarterly, by March 31, June 30, September 30, and December 31 of each year.

Every approved tribal gaming ordinance, every approved ordinance amendment, and the approval thereof, will be posted on the Commission's website (www.nigc.gov) under General Counsel, Gaming Ordinances within five (5) business days of approval. Also, the Commission will make copies of approved Class III ordinances available to the public upon request. Requests can be made in writing to the Office of General Counsel, National Indian Gaming Commission, Attn: Tearanie McCain, C/O Department of the Interior, 1849 C Street NW, MS #1621, Washington, DC 20240.

The following constitutes a consolidated list of all Tribes for which the Chairman has approved tribal gaming ordinances authorizing Class III gaming.

1. Absentee-Shawnee Tribe of Indian of Oklahoma

2. Agua Caliente Band of Cahuilla Indians

3. Ak-Chin Indian Community of the Maricopa Indian Reservation

4. Alabama-Quassarte Tribal Town

5. Alturas Indian Rancheria

6. Apache Tribe of Oklahoma

7. Assiniboine & Sioux Tribes of Fort Peck Indian Reservation

8. Augustine Band of Cahuilla Indians

9. Bad River Band of Lake Superior Tribe of Chippewa Indians

10. Barona Group of Captain Grande Band of Mission Indians

11. Bay Mills Indian Community

12. Bear River Band of Rohnerville Rancheria

13. Berry Creek Rancheria of Tyme Maidu Indians

14. Big Lagoon Rancheria

15. Big Pine Band of Owens Valley Paiute Shoshone Indians

16. Big Sandy Rancheria Band of Western Mono Indians

17. Big Valley Band of Pomo Indians

18. Bishop Paiute Tribe

19. Blackfeet Tribe

20. Blue Lake Rancheria of California

21. Bois Forte Band of the Minnesota Chippewa Tribe

22. Buena Vista Rancheria of Me-Wuk Indians

23. Burns Paiute Tribe

24. Cabazon Band of Mission Indians

25. Cachil DeHe Band of Wintun Indians of the Colusa Indian Community

26. Caddo Nation of Oklahoma

27. Cahto Indian Tribe of the Laytonville Rancheria

28. Cahuilla Band of Mission Indians

29. California Valley Miwok Tribe

30. Campo Band of Diegueno Mission Indians

31. Catawba Indian Nation

32. Chemehuevi Indian Tribe

33. Cher-Ae Heights Indian

Community of the Trinidad Rancheria

34. Cherokee Nation of Oklahoma

35. Cheyenne and Arapaho Tribes

36. Cheyenne River Sioux Tribe

37. Chickasaw Nation of Oklahoma

38. Chicken Ranch Rancheria of Me-Wuk Indians

39. Chippewa-Cree Tribe of the Rocky Boy's Reservation

40. Chitimacha Tribe of Louisiana

41. Choctaw Nation of Oklahoma

42. Citizen Potawatomi Nation

43. Cloverdale Rancheria of Pomo Indians

44. Cocopah Indian Tribe

45. Coeur d'Alene Tribe

46. Colorado River Indian Tribes

47. Comanche Nation of Oklahoma

48. Confederated Salish and Kootenai Tribes of the Flathead Reservation

49. Confederated Tribes and Bands of the Yakama Nation

50. Confederated Tribes of Coos, Lower Umpqua and Siuslaw Indians of Oregon

51. Confederated Tribes of the Chehalis Reservation

52. Confederated Tribes of the Colville Reservation

53. Confederated Tribes of the Grand Ronde Community of Oregon

54. Confederated Tribes of Siletz Indians of Oregon

55. Confederated Tribes of the Umatilla Reservation

56. Confederated Tribes of the Warm Springs Reservation

57. Coquille Indian Tribe

58. Coushatta Tribe of Louisiana

59. Cow Creek Band of Umpqua Indians of Oregon

60. Cowlitz Indian Tribe

61. Coyote Valley Band of Pomo Indians of California

62. Crow Creek Sioux Tribe

63. Crow Indian Tribe of Montana

64. Delaware Tribe of Western Oklahoma

65. Delaware Tribe of Indians

66. Dry Creek Rancheria of Pomo Indians of California

67. Eastern Band of Cherokee Indians

68. Eastern Shawnee Tribe of Oklahoma

69. Eastern Shoshone Tribe of the Wind River Indian Reservation

70. Elem Indian Colony of Pomo Indians

71. Elk Valley Rancheria

72. Ely Shoshone Tribe of Nevada

73. Enterprise Rancheria of the Maidu Indians of California

74. Ewiiaapaayp Band of Kumeyaay Indians

75. Fallon Paiute-Shoshone Tribes

76. Federated Indians of Graton Rancheria

77. Flandreau Santee Sioux Tribe of South Dakota

78. Fond du Lac Band of Lake Superior Chippewa

79. Forest County Potawatomi Community

80. Fort Belknap Indian Community

81. Fort Independence Indian Community of Paiute Indians

82. Fort McDermitt Paiute -Shoshone Tribe of Nevada and Oregon

83. Fort McDowell Yavapai Nation

84. Fort Mojave Indian Tribe of Arizona, California and Nevada

85. Fort Sill Apache Tribe of Oklahoma

86. Gila River Indian Community

87. Grand Portage Band of Chippewa Indians

88. Grand Traverse Band of Ottawa and Chippewa Indians

89. Greenville Rancheria of Maidu Indians of California

90. Grindstone Indian Rancheria of Wintun-Wailaki Indians of California

91. Guidiville Band of Pomo Indians

92. Habematolel Pomo of Upper Lake

93. Hannahville Indian Community

94. Ho-Chunk Nation of Wisconsin

95. Hoopa Valley Tribe

96. Hopland Band of Pomo Indians

97. Hualapai Indian Tribe

98. Huron Potawatomi, Inc.

99. Iipay Nation of Santa Ysabel of California

100. Ione Band of Miwok Indians

101. Iowa Tribe of Kansas and Nebraska

102. Iowa Tribe of Oklahoma

103. Jackson Rancheria Band of Miwuk Indians

104. Jamestown S'Klallam Tribe of Washington

105. Jamul Band of Mission Indians

106. Jena Band of Choctaw Indians

107. Jicarilla Apache Nation

108. Kaibab Band of Paiute Indians

109. Kalispel Tribe of Indians

110. Karuk Tribe

111. Kashia Band of Pomo Indians of the Stewarts Point Reservation

112. Kaw Nation

113. Keweenaw Bay Indian Community

114. Kialegee Tribal Town

115. Kickapoo Traditional Tribe of Texas

116. Kickapoo Tribe of Indians in Kansas

117. Kickapoo Tribe of Oklahoma

118. Kiowa Tribe of Oklahoma

119. Klamath Tribes

120. Klawock Cooperative Association

121. Kootenai Tribe of Idaho

122. Lac Courte Oreilles Band of Lake Superior Chippewa Indians

123. Lac du Flambeau Band of Lake Superior Chippewa Indians

124. Lac Vieux Desert Band of Lake Superior Chippewa Indians

125. La Jolla Band of Luiseno Indians

126. La Posta Band of Mission Indians

127. Las Vegas Paiute Tribe

128. Leech Lake Band of Chippewa Indians

129. Little River Band of Ottawa Indians

130. Little Traverse Bay Bands of Odawa Indians

131. Lower Brule Sioux Tribe

132. Lower Elwha Klallam Tribe

133. Lower Sioux Indian Community

134. Lummi Indian Tribe

135. Lytton Rancheria of California

136. Manchester Band of Pomo Indians of the Manchester-Point Arena Rancheria

137. Manzanita Band of Mission Indians

138. Mashantucket Pequot Tribe

139. Mashpee Wampanoag Tribe

140. Match-E-Be-Nash-She-Wish Band of the Potawatomi Indians of Michigan

141. Mechoopda Indian Tribe of Chico Rancheria

142. Menominee Indian Tribe of Wisconsin

143. Mescalero Apache Tribe

144. Miami Tribe of Oklahoma

145. Middletown Rancheria of Pomo Indians

146. Mille Lacs Band of Ojibwe

147. Mississippi Band of Choctaw Indians

148. Moapa Band of Paiute Indians

149. Modoc Tribe of Oklahoma

150. Mohegan Indian Tribe of Connecticut

151. Mooretown Rancheria of Maidu Indians

152. Morongo Band of Mission Indians

153. Muckleshoot Indian Tribe

154. Muscogee (Creek) Nation

155. Narragansett Indian Tribe

156. Navajo Nation

157. Nez Perce Tribe

158. Nisqually Indian Tribe

159. Nooksack Indian Tribe

160. North Fork Rancheria of Mono Indians of California

161. Northern Arapaho Tribe of the Wind River Indians

162. Northern Cheyenne Tribe

163. Nottawaseppi Huron Band of Potawatomi

164. Oglala Sioux Tribe

165. Ohkay Owingeh Pueblo of San Juan

166. Omaha Tribe of Nebraska

167. Oneida Nation of New York

168. Oneida Tribe of Indians of Wisconsin

169. Osage Nation

170. Otoe-Missouri Tribe of Indians

171. Ottawa Tribe of Oklahoma

172. Paiute-Shoshone Indians of the Bishop Community

173. Pala Band of Luiseno Mission Indians

174. Pascua Yaqui Tribe of Arizona

175. Paskenta Band of Nomlaki Indians

176. Pauma Band of Mission Indians

177. Pawnee Nation of Oklahoma

178. Pechanga Band of Mission Indians

179. Peoria Tribe of Indians of Oklahoma

180. Picayune Rancheria of Chukchansi Indians

181. Pinoleville Band of Pomo Indians

182. Pit River Tribe

183. Poarch Band Creek Indians

184. Pokagon Band of Potawatomi Indians of Michigan

185. Ponca Tribe of Oklahoma

186. Ponca Tribe of Nebraska

187. Port Gamble S'Klallam Tribe

188. Prairie Band of Potawatomi Nation

189. Prairie Island Indian Community

190. Pueblo of Acoma

191. Pueblo of Isleta

192. Pueblo of Jemez

193. Pueblo of Laguna

194. Pueblo of Nambe

195. Pueblo of Picuris

196. Pueblo of Pojoaque

197. Pueblo of San Felipe

198. Pueblo of Sandia

199. Pueblo of Santa Ana

200. Pueblo of Santa Clara

201. Pueblo of Santo Domingo

202. Pueblo of Taos

203. Pueblo of Tesuque

204. Puyallup Tribe of Indians

205. Pyramid Lake Paiute Tribe

206. Quapaw Tribe of Indians

207. Quartz Valley Indian Community

208. Quechan Tribe of Fort Yuma Indian Reservation

209. Quileute Tribe

210. Quinault Indian Nation

211. Red Cliff Band of Lake Superior Chippewa Indians

212. Red Cliff, Sokaogon Chippewa and Lac Courte Oreilles Band

213. Red Lake Band of Chippewa Indians

214. Redding Rancheria

215. Redwood Valley Rancheria of Pomo Indians

216. Reno-Sparks Indian Colony

217. Resighini Rancheria of Coast Indian Community

218. Rincon Band of Luiseno Mission Indians

219. Robinson Rancheria of Pomo Indians

220. Rosebud Sioux Tribe

221. Round Valley Indian Tribe

222. Sac & Fox Nation of Oklahoma

223. Sac & Fox Tribe of Mississippi in Iowa

224. Sac & Fox Nation of Missouri in Kansas and Nebraska

225. Saginaw Chippewa Indian Tribe of Michigan

226. Salt River Pima-Maricopa Indian Community

227. Samish Indian Tribe

228. San Carlos Apache Tribe

229. San Manual Band of Mission Indians

230. San Pasqual Band of Diegueno Mission Indians

231. Santa Rosa Rancheria Tachi-Yokut Tribe

232. Santa Ynez Band of Chumash Mission Indians

233. Santa Ysabel Band of Diegueno Mission Indians

234. Sauk-Suiattle Indian Tribe

235. Sault Ste. Marie Tribe of Chippewa Indians

236. Scotts Valley Band of Pomo Indians

237. Seminole Nation of Oklahoma

238. Seminole Tribe of Florida

239. Seneca Nation of Indians of New York

240. Seneca-Cayuga Tribe of Oklahoma

241. Shakopee Mdewakanton Sioux Community

242. Shawnee Tribe

243. Sherwood Valley Rancheria of Pomo Indians

244. Shingle Springs Band of Miwuk Indians

245. Shinnecock Indian Nation

246. Shoalwater Bay Indian Tribe

247. Shoshone Tribe of the Wind River Reservation

248. Shoshone-Bannock Tribes of the Fort Hall Indian Reservation of Idaho

249. Shoshone-Paiute Tribe of the Duck Valley Indian Reservation

250. Sisseton-Wahpeton Oyate of the Lake Traverse Reservation

251. Skokomish Indian Tribe

252. Smith River Rancheria

253. Snoqualmie Tribe

254. Soboba Band of Luiseno Indians

255. Sokaogon Chippewa Community

256. Southern Ute Indian Tribe

257. Sprite Lake Tribe

258. Spokane Tribe of Indians

259. Squaxin Island Tribe

260. St. Croix Chippewa Indians of Wisconsin

261. St. Regis Mohawk Tribe

262. Standing Rock Sioux Tribe

263. Stillaguamish Tribe of Indians

264. Stockbridge-Munsee Community

265. Suquamish Tribe of the Port Madison Reservation

266. Susanville Indian Rancheria

267. Swinomish Indian Tribal Community

268. Sycuan Band of Diegueno Mission Indians

269. Table Mountain Rancheria

270. Te-Moak Tribe of Western Shoshone Indians of Nevada

271. Thlopthlocco Tribal Town

272. Three Affiliated Tribes of the Fort Berthold Reservation

273. Timbisha Shoshone Tribe

274. Tohono O'odham Nation

275. Tolowa Dee-ni' Nation

276. Tonkawa Tribe of Oklahoma

277. Tonto Apache Tribe

278. Torres Martinez Desert Cahuilla Indians

279. Tulalip Tribes of Washington

280. Tule River Tribe

281. Tunica-Biloxi Indians of Louisiana

282. Tuolumne Band of Me-Wuk Indians

283. Turtle Mountain Band of Chippewa Indians

284. Twenty-Nine Palms Band of Mission Indians

285. United Auburn Indian Community

286. Upper Sioux Community

287. Upper Skagit Indian Tribe of Washington

288. Ute Mountain Ute Tribe

289. U-tu-Utu-Gwaitu Paiute Tribe of Benton Paiute Reservation

290. Viejas Band of Kumeyaay Indians

291. Wampanoag Tribe of Gay Head

292. Washoe Tribe of Nevada and California

293. White Earth Band of Chippewa Indians

294. White Mountain Apache Tribe

295. Wichita and Affiliated Tribes of Oklahoma

296. Wilton Rancheria

297. Winnebago Tribe of Nebraska

298. Wiyot Tribe of Table Bluff Reservation

299. Wyandotte Nation of Oklahoma

300. Yankton Sioux Tribe

301. Yavapai Apache Nation of the Camp Verde Indian Reservation

302. Yavapai-Prescott Indian Tribe

303. Yerington Paiute Tribe

304. Yocha-De-He Wintun Nation

305. Yurok Tribe

National Indian Gaming Commission.
Michael C. Hoenig,
General Counsel.

[FR Doc. 2021-28190 Filed 12-27-21; 8:45 am]

BILLING CODE 7565-02-P